DEPARTMENT OF TRANSPORTATION

Surface Transportation Board

[STB Docket No. MC-F-21018] ¹

CUSA GCBS, LLC d/b/a Goodall's Charter Bus Service—Acquisition of Assets and Business Operations—Comartin Enterprises, Inc. d/b/a Contactours

AGENCY: Surface Transportation Board, DOT.

¹ A request for interim approval under 49 U.S.C. 14303(i) was included in this filing (STB Docket No. MC-F-21018 TA). In a decision served on June 23, 2006, temporary approval was granted, effective on the service date of the decision.

ACTION: Notice tentatively approving finance transaction.

SUMMARY: CUSA GCBS, LLC d/b/a Goodall's Charter Bus Service (CUSA GCBS or Applicant), a federally regulated motor carrier of passengers (MC-463173), has filed an application under 49 U.S.C. 14303 to purchase the assets and business operations of Comartin Enterprises, Inc. (formerly known as San Diego Mini Tours, Inc.) d/b/a Contactours (Contactours). Applicant is not acquiring Contactours' operating authority. Persons wishing to oppose this application must follow the rules at 49 CFR 1182.5 and 1182.8. The Board has tentatively approved the transaction, and, if no opposing comments are timely filed, this notice will be the final Board action.

DATES: Comments must be filed by August 21, 2006. Applicant may file a reply by September 5, 2006. If no comments are filed by August 21, 2006, this notice is effective on that date.

ADDRESSES: Send an original and 10 copies of any comments referring to STB Docket No. MC-F-21018 to: Surface Transportation Board, 1925 K Street, NW., Washington, DC 20423-0001. In addition, send one copy of comments to Applicant's representative: Stephen Flott, Flott & Co. PC, PO Box 17655, Arlington, VA 22216-7655.

FOR FURTHER INFORMATION CONTACT: Eric S. Davis, (202) 565-1608. [Federal Information Relay Service (FIRS) for the hearing impaired: 1-800-877-8339.]

SUPPLEMENTARY INFORMATION: CUSA GCBS is a private limited liability company organized under the laws of the State of Delaware by CUSA, LLC (CUSA), a noncarrier, which also owns other federally regulated motor carriers of passengers and non-federally regulated companies. CUSA, in turn, is wholly owned by noncarrier KBUS Holdings, LLC (KBUS), which acquired the assets and business operations of federally regulated motor carriers formerly owned by Coach, USA, Inc., and then consolidated those assets/operations into the passenger carriers now controlled by CUSA.² Applicant states that the carriers in the CUSA group have more than 4,900 employees, operate approximately 1,500 motor coaches and over 800 other vehicles in 38 states, and had gross revenues exceeding $250 million in 2005.

² See KBUS Holdings, LLC—Acquisition of Assets and Business Operations—All West Coachlines, Inc., et al., STB Docket No. MC-F-21000 (STB served July 23, 2003).

Contactours is a motor passenger carrier that operates principally in San Diego and Southern California pursuant to Federal operating authority granted in Docket No. MC-181063. According to applicant, CUSA's experienced senior management team has identified the acquisition of Contactours as a strategic way to expand its contract tour business in Southern California and to extend its Gray Line franchise operations. Applicant has entered into an agreement with Contactours to buy its assets, including vehicles, business operations, and prepaid charter trip deposits.

Under 49 U.S.C. 14303(b), the Board must approve and authorize a transaction found to be consistent with the public interest, taking into consideration at least: (1) The effect of the transaction on the adequacy of transportation to the public; (2) the total fixed charges that result; and (3) the interest of affected carrier employees.

CUSA GCBS has submitted information, as required by 49 CFR 1182.2, including the information to demonstrate that the proposed transaction is consistent with the public interest under 49 U.S.C. 14303(b). Applicant states that the proposed transaction will improve the adequacy of transportation services available to the public, that the proposed transaction will not have an adverse effect on total fixed charges, and that the interests of employees of Contactours will not be adversely impacted. Additional information, including a copy of the application, may be obtained from Applicant's representative.

On the basis of the application, we find that the proposed acquisition of assets and business operations is consistent with the public interest and should be authorized. If any opposing comments are timely filed, this finding will be deemed vacated and, unless a final decision can be made on the record as developed, a procedural schedule will be adopted to reconsider the application. See 49 CFR 1182.6(c). If no opposing comments are filed by the expiration of the comment period, this notice will take effect automatically and will be the final Board action.

Board decisions and notices are available on our Web site at http://www.stb.dot.gov.

This decision will not significantly affect either the quality of the human environment or the conservation of energy resources.

It is ordered:

1. The proposed finance transaction is approved and authorized, subject to the filing of opposing comments.

2. If timely opposing comments are filed, the findings made in this notice will be deemed as having been vacated.

3. This notice will be effective on August 21, 2006, unless timely opposing comments are filed.

4. A copy of this notice will be served on: (1) The U.S. Department of Transportation, Federal Motor Carrier Safety Administration, 400 7th Street, SW., Room 8214, Washington, DC 20590; (2) the U.S. Department of Justice, Antitrust Division, 10th Street & Pennsylvania Avenue, NW., Washington, DC 20530; and (3) the U.S. Department of Transportation, Office of the General Counsel, 400 7th Street, SW., Washington, DC 20590.

Decided: June 29, 2006.
By the Board, Chairman Buttrey and Vice Chairman Mulvey.
Vernon A. Williams,
Secretary.

[FR Doc. E6-10566 Filed 7-6-06; 8:45 am]

BILLING CODE 4915-01-P